DEPARTMENT OF VETERANS AFFAIRS

Advisory Committee Charter Renewals

AGENCY: Department of Veterans Affairs.

ACTION: Notice of Advisory Committee Charter Renewals

SUMMARY: In accordance with the provisions of the Federal Advisory Committee ACT (FACA), 5 U.S.C. App. 2, and after consultation with the General Services Administration, the Secretary of Veterans Affairs has renewed the charters for the following statutorily authorized Federal advisory committees for a two-year period, beginning the on the dates listed below:

Committee name | Committee description | Charter renewed on
Advisory Committee on Prosthetics and Special-Disabilities Programs | Authorized by 38 U.S.C. § 543. Provides advice on the administration of VA prosthetics programs and the rehabilitation research, development, and evaluation of prosthetics technology; assesses VA programs that serve Veterans with spinal cord injury, blindness or vision impairment, loss of or loss of use of extremities, deafness or hearing impairment, or other serious incapacities | May 18, 2016.
Advisory Committee on Homeless Veterans | Authorized by 38 U.S.C. § 2066. Provides advice to the Secretary on benefits and services provided to homeless Veterans by the Department of Veterans Affairs | May 19, 2016.
Geriatrics and Gerontology Advisory Committee | Authorized by 38 U.S.C. § 7312. Provides advice to the Secretary and the Under Secretary for Health on matters pertaining to geriatrics by assessing the capability of VA health care facilities to meet all the needs of older Veterans, and by evaluating VA facilities designated as Geriatric Research, Education, and Clinical Centers | June 30, 2016.

FOR FURTHER INFORMATION CONTACT: Jeffrey Moragne, Committee Management Office, Department of Veterans Affairs, Advisory Committee Management Office (00AC), 810 Vermont Avenue NW., Washington, DC 20420; telephone (202) 266-4660; or email at Jeffrey.Moragne@va.gov. To view a copy of a VA Federal advisory committee charter, visit http://www.va.gov/advisory.

Dated: August 10, 2016.
Jelessa Burney,
Federal Advisory Committee Management Officer.

[FR Doc. 2016-19400 Filed 8-12-16; 8:45 am]

BILLING CODE 8320-01-P